ENVIRONMENTAL PROTECTION AGENCY

[ER-FRL-8997-3]

Environmental Impact Statements; Notice of Availability

Responsible Agency: Office of Federal Activities, General Information (202) 564-1399 or http://www.epa.gov/compliance/nepa/

Weekly receipt of Environmental Impact Statements

Filed 05/23/2011 Through 05/27/2011

Pursuant to 40 CFR 1506.9

Notice: In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the website satisfies the Section 309(a) requirement to make EPA's comments on EISs available to the public. Accordingly, on March 31, 2010, EPA discontinued the publication of the notice of availability of EPA comments in the Federal Register.

EIS No. 20110167, Revised Final EIS, USFS, MT, Bozeman Municipal Watershed Project, New Information to Address New Additions to the Sensitive Species List, To Implement Fuel Reduction Activities, Bozeman Ranger District, Gallatin National Forest, City of Bozeman Municipal Watershed, Gallatin County, MT, Review Period Ends: 07/18/2011, Contact: Teri Seth 406-522-2520.

EIS No. 20110168, Draft Supplement, USFS, ID, Bussel 484 Project Area, Updated and New Information, Manage the Project Area to Achieve Desired Future Conditions for Vegetation, Fire, Fuels, Recreation, Access, Wildlife, Fisheries, Soil and Water, Idaho Panhandle National Forest, St. Joe Ranger District, Shoshone County, ID, Comment Period Ends: 07/18/2011, Contact: Lynette Myhre 208-245-1531.

EIS No. 20110169, Draft EIS, BLM, UT, Sigurd to Red Butte No. 2-345Kv Transmission Project, Construct, Operate, and Maintain a Single—Circuit 345 Kv Transmission Line, Issue of Right-of-Way Grant by BLM and Special-Use-Permit by AFS, Sevier and Washington Counties, UT, Comment Period Ends: 07/18/2011, Contact: Tamara Gertsch 307-775-61115.

EIS No. 20110170, Draft EIS, USACE, FL, St Lucie County South Beach and Dune Restoration Project, To Restore Recreational Beach, Restore Beach and Habitat, and Reduce Storm Damage Due to Beach Erosion, St. Lucie County, FL, Comment Period Ends: 07/18/2011, Contact: Garett Lips 561-472-3519.

EIS No. 20110171, Draft EIS, USFS, ID, Lower Orogrande Project, Proposes Watershed Improvement Timber Harvest and Wildlife Habitat Enhancement Activities, North Fork Ranger District, Clearwater National Forest, Clearwater County, ID, Comment Period Ends: 07/18/2011, Contact: George Harbaugh 208-935-4260.

EIS No. 20110172, Final EIS, USFS, CA, Mudflow Vegetation Management Project, To Improve or Sustain the Health and Resiliency of the Forest and Reduce the Risk of Stand-replacing Wildfire, Siskiyou County, CA, Review Period Ends: 07/05/2011, Contact: Christine Jordan 530-964-3771.

EIS No. 20110173, Final EIS, GSA, CA, Calexico West Land Port of Entry in Calexico, Expansion of Reconfiguration, Implementation, CA, Review Period Ends: 07/05/2011, Contact: Maureen Sheehan 253-931-7548.

EIS No. 20110174, Draft EIS, USFS, 00, George Washington National Forest Land and Resource Management Project, Implementation, Alleghany, Amherst, Augusta, Bath, Botetourt, Frederick, Highland, Nelson, Page, Rockbridge, Rockingham, Shenandoah, and Warren Counties VA and Hampshire, Hardy, Monroe, and Pendleton Counties, WV, Comment Period Ends: 09/01/2011, Contact: Karen Overcash 540-265-5175.

EIS No. 20110175, Final EIS, WAPA, SD, Groton Generation Station (GGS) Project, Proposes to Modify its Interconnection Agreement, Basin Electric Power Cooperative, for the (GGS) to Eliminate 50-Megawatts (MW) Annual Average Operating Limit, Brown County, SD, Review Period Ends: 07/05/2011, Contact: Erika Walters 720-962-7279.

Amended Notices

EIS No. 20110106, Draft EIS, BIA, NM, Pueblo of Jemez 70.277 Acre Fee-To- Trust Transfer and Casino Project, Implementation, Dona Ana County, NM, Comment Period Ends: 07/01/2011, Contact: Priscilla Wade 505-563-3417. Revision to FR Notice Published 04/08/2011: Extending Comment Period from 06/01/2011 to 07/01/2011.

EIS No. 20110108, Draft EIS, USFS, OR, Kapka Butte Sno-Park Project, Proposal to Build a New Sno-Park to Provide more High-Elevation Parking for Winter Recreationist, Bend-Ft. Rock Ranger District, Deschutes National Forest, Deschutes County, OR, Comment Period Ends: 06/30/2011, Contact: Beth Peer 541-383-4769 Revision to Notice Published 04/15/2011: Extending Comment Period from 05/30/2011 to 06/30/2011.

EIS No. 20110121, Draft EIS, USA, CA, Presidio of Monterey Installation (POM) Project, To Implement the Real Property Master Plan, Monterey County, CA, Comment Period Ends: 06/21/2011, Contact: Michelle Royal 210-424-8331 Revision to FR Notice Published 04/22/2011: Extending Comment Period from 06/06/2011 to 06/21/2011.

Dated: May 31, 2011.
Aimee S. Hessert,
Deputy Director, NEPA Compliance Division, Office of Federal Activities.

[FR Doc. 2011-13820 Filed 6-2-11; 8:45 am]

BILLING CODE 6560-50-P